DEPARTMENT OF LABOR

Employment and Training Administration

[TA-W-50,661]

Swank, Inc., Formerly Known as Crestline, South Norwalk, CT; Amended Certification Regarding Eligibility To Apply for Worker Adjustment Assistance

In accordance with section 223 of the Trade Act of 1974 (19 U.S.C. 2273) the Department of Labor issued a Certification of Eligibility to Apply for Worker Adjustment Assistance on January 31, 2003, applicable to workers of Swank, Inc., Norwalk, Connecticut. The notice was published in the Federal Register on February 24, 2003 (68 FR 8620).

At the request of a company official, the Department reviewed the certification for workers of the subject firm. The workers are engaged in the production of men's belts and suspenders. The company reports that the subject firm was formerly known as Crestline. Furthermore, the plant is actually located in South Norwalk, not Norwalk as was indicated in the certification.

The Department is amending the certification to make the necessary corrections.

The amended notice applicable to TA-W-50, 661 is hereby issued as follows:

All workers of Swank, Inc., formerly known as Crestline, South Norwalk, Connecticut, who became totally or partially separated from employment on or after January 17, 2002 through January 31, 2005, are eligible to apply for adjustment assistance under section 223 of the Trade Act of 1974.

Signed at Washington, DC, this 5th day of May 2003.
Richard Church,
Certifying Officer, Division of Trade Adjustment Assistance.

[FR Doc. 03-12425 Filed 5-16-03; 8:45 am]

BILLING CODE 4510-30-P